DEPARTMENT OF DEFENSE

Department of the Air Force

[Docket ID: USAF-2010-0001]

Privacy Act of 1974; System of Records

AGENCY: Department of the Air Force, DoD.

ACTION: Notice to add a system of records.

SUMMARY: The Department of the Air Force proposes to add a system of records to its inventory of record systems subject to the Privacy Act of 1974 (5 U.S.C. 552a), as amended.

DATES: The proposed action will be effective on February 16, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ben Swilley at (703) 696-6489.

SUPPLEMENTARY INFORMATION: The Department of the Air Force's notices for systems of records subject to the Privacy Act of 1974 (5 U.S.C. 552a), as amended, have been published in the Federal Register and are available from the contact under FOR FURTHER INFORMATION CONTACT.

The proposed systems reports, as required by 5 U.S.C. 552a(r) of the Privacy Act, were submitted on January 5, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: January 8, 2010.
Mitchell S. Bryman,
Alternate OSD Federal Register Liaison Officer, Department of Defense.

F010 AFSPC A

SYSTEM NAME:

Telecommunications Notification System Records.

SYSTEM LOCATION:

Department of Air Force, 30 Space Communications Squadron, Building 12000, Room 104, 867 Washington Ave., Suite 205, Vandenberg Air Force Base, California 93437-6117.

CATEGORIES OF INDIVIDUALS COVERED BY THE SYSTEM:

All Air Force Active Duty Service members, civilians, and government contractors.

CATEGORIES OF RECORDS IN THE SYSTEM:

First and last name, home address, work and cell phone numbers, employee type, office/unit name, home and work e-mail address.

AUTHORITY FOR MAINTENANCE OF THE SYSTEM:

10 U.S.C. 8013, Secretary of the Air Force; Air Force Instruction 10-218, Personnel Accountability in Conjunction with Natural Disasters or National Emergencies; Air Force Policy Directive; 10-2 Readiness, Air Force Policy Directive 10-4, Operations Planning, and Air Force Policy Directive 10-25, Emergency Management.

PURPOSE(S):

To provide notification, via electronic mail and telephone, for personnel recalls and real world and exercise threat conditions.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD `Blanket Routine Uses' published at the beginning of the Air Force's compilation of systems of records notices apply to this system.

POLICIES AND PRACTICES FOR STORING, RETRIEVING, ACCESSING, RETAINING, AND DISPOSING OF RECORDS IN THE SYSTEM:

STORAGE:

Paper records and electronic storage media.

RETRIEVABILITY:

Data is retrieved by first and last name, and office name.

SAFEGUARDS:

Records may be accessed by the System Administrator, Command Post, and authorized designated Unit Control Representatives. They must have a Government Common Access Card (CAC) and associated Personal Identification Number (PIN) in addition to user identification and password for system access.

RETENTION AND DISPOSAL:

Records are deleted at the end of the year individual has departed the Air Base.

SYSTEM MANAGER(S) AND ADDRESS:

Command Post Superintendent, 30 Space Wing Space Communications Squadron, 867 Washington Avenue, Suite 200-1, Vandenberg Air Force Base, California 93437-6120.

NOTIFICATION PROCEDURE:

Individuals seeking to determine whether information about themselves is contained in this system of records should address written inquiries to the Command Post Superintendent, 30 Space Wing Command Post 867 Washington Ave, Suite 205, Vandenberg Air Force Base, California 93437-6117.

Written request must include their full name and office name in the request letter.

RECORD ACCESS PROCEDURES:

Individuals seeking access to information about themselves should address written inquiries to Command Post Superintendent, 30 Space Wing Command Post 867 Washington Ave, Suite 205, Vandenberg Air Force Base, California 93437-6117.

Written request must include their full name and office name in the request letter.

CONTESTING RECORD PROCEDURES:

The Air Force rules for accessing records and for contesting contents and appealing initial agency determinations are published in Air Force Instruction 33-332, 32 CFR part 806b, or may be obtained from the system manager.

RECORD SOURCE CATEGORIES:

From the individual.

EXEMPTIONS CLAIMED FOR THE SYSTEM:

None.

[FR Doc. 2010-474 Filed 1-13-10; 8:45 am]

BILLING CODE 5001-06-P